ENVIRONMENTAL PROTECTION AGENCY

[EPA-HQ-ORD-2016-0010; FRL-9941-88-OEI]

Information Collection Request Submitted to OMB for Review and Approval; Comment Request; Recordkeeping for Institutional Dual Use Research of Concern (iDURC) Policy Compliance

AGENCY: Environmental Protection Agency (EPA).

ACTION: Notice.

SUMMARY: The Environmental Protection Agency has submitted an information collection request (ICR), “Recordkeeping for Institutional Dual Use Research of Concern (iDURC) Policy Compliance” (EPA ICR No. 2530.01, OMB Control No. 2080-NEW) to the Office of Management and Budget (OMB) for emergency processing in accordance with the Paperwork Reduction Act (44 U.S.C. 3501 et seq.). This is a request for approval of a new collection, for which EPA requests approval by February 29, 2016. A fuller description of the ICR is given below, including its estimated burden and cost to the public. An Agency may not conduct or sponsor and a person is not required to respond to a collection of information unless it displays a currently valid OMB control number.

DATES: Additional comments may be submitted on or before March 4, 2016.

ADDRESSES: Submit your comments, referencing Docket ID Number EPA-HQ-ORD-2016-0010, to (1) EPA online using www.regulations.gov (our preferred method), by email to ord.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Brendan Doyle, Office of Research and Development, Mail Code: 8801R, Environmental Protection Agency, 1200 Pennsylvania Ave. NW., Washington, DC 20460; telephone number: 202-564-4584; email address: doyle.brendan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: To comply with the U.S. Government Policy for Institutional Oversight of Life Sciences Dual Use Research of Concern (Policy) (http://www.phe.gov/s3/dualuse/Pages/default.aspx), EPA must ensure that the institutions that are subject to the Policy train their laboratory personnel and maintain records of that training. This training is specific to “dual use research of concern,” and should include information on how to properly identify DURC and appropriate methods for ensuring research that is determined to be DURC is conducted and communicated responsibly.

EPA is requesting emergency clearance of this ICR under 5 CFR 1320.13(a)(2)(i) because the iDURC policy's effective date has passed, but without PRA approval the recordkeeping provisions cannot yet be implemented. Standard processing of this ICR would further delay full implementation of the policy, which seeks to mitigate the risk of public harm from life sciences research being misapplied.

EPA requests that OMB authorize this ICR by February 29, 2016, for the maximum of 180 days.

Form Numbers: None.

Respondents/affected entities: Private sector and the federal-owned/contractor-operated labs.

Respondent's obligation to respond: Mandatory (per EPA Order on Policy and Procedures for Managing Dual Use Research of Concern).

Estimated number of respondents: Eighteen (total).

Frequency of response: Only once and/or as necessary.

Total estimated burden: 72 hours (per year). Burden is defined at 5 CFR 1320.03(b).

Total estimated cost: $4,320 (per year), includes $0 annualized capital or operation & maintenance costs.

Changes in the Estimates: There is no currently approved burden as this is a new information collection request.

Courtney Kerwin,
Acting Director, Collection Strategies Division.

[FR Doc. 2016-01971 Filed 2-2-16; 8:45 am]

BILLING CODE 6560-50-P